DEPARTMENT OF DEFENSE

Office of the Secretary

Board of Regents, Uniformed Services University of the Health Sciences; Notice of Federal Advisory Committee Meeting; Correction

AGENCY: Uniformed Services University of the Health Sciences (USU), DoD.

ACTION: Quarterly meeting notice; correction.

SUMMARY: On Thursday, October 3, 2013 (78 FR 61344), the Department of Defense published in the Federal Register, a notice to announce the quarterly meeting of the Board of Regents, Uniformed Services University of the Health Sciences on Wednesday, October 23, 2013, from 8:30 a.m. to 10:30 a.m. (Open Session) and 10:30 a.m. to 11:30 a.m. (Closed Session). Due to the extended government shutdown, the meeting location has been moved. This notice corrects the meeting location.

ADDRESSES: The meeting location has been moved to the Everett Alvarez Jr. Board of Regents Room (D3001), Uniformed Services University of the Health Sciences, 4301 Jones Bridge Road, Bethesda, Maryland 20814.

FOR FURTHER INFORMATION CONTACT: Members of the public wishing to attend the meeting should contact S. Leeann Ori, Designated Federal Officer, 4301 Jones Bridge Road, D3002, Bethesda, Maryland 20814; telephone 301-295-3066; email sherri.ori@usuhs.edu.

SUPPLEMENTARY INFORMATION: Pursuant to Federal statute and regulations (5 U.S.C. 552b and 41 CFR 102-3.140 through 102-3.165) and the availability of space, the meeting is open to the public from 8:30 a.m. to 10:30 a.m. Seating is on a first-come basis.

Meeting Announcement: Due to the lapse of appropriations, the Department of Defense had to change the meeting location for Board of Regents Uniformed Services University of the Health Sciences on October 23, 2013. As a result, the Department of Defense was unable to provide appropriate notification as required by 41 CFR 102-3.150(a). Therefore, the Advisory Committee Management Officer for the Department of Defense, pursuant to 41 CFR 102-3.150(b), waives the 15-calendar day notification requirement.

Dated: October 17, 2013.
Aaron Siegel,
Alternate OSD Federal Register Liaison Officer, Department of Defense.

[FR Doc. 2013-24652 Filed 10-21-13; 8:45 am]

BILLING CODE 5001-06-P